DEPARTMENT OF THE INTERIOR

Bureau of Land Management

[OR-957-00-1420-BJ; GPO2-0315]

Filing of Plats of Survey: Oregon/Washington

AGENCY: Bureau of Land Management, Interior.

ACTION: Notice.

SUMMARY: The plat of survey of the following described lands were officially filed in the Oregon State Office, Portland, Oregon, on June 28, 2002.

Willamette Meridian

Oregon

T. 22 S., R. 30 E., accepted June 19, 2002

A copy of the plats may be obtained from the Oregon State Office, Bureau of Land Management, 333 SW. 1st Avenue, Portland, Oregon 97204, upon required payment. A person or party who wishes to protest against a survey must file with the State Director, Bureau of Land Management, Portland, Oregon, a notice that they wish to protest.

For further information contact: Bureau of Land Management, (333 S.W. 1st Avenue) P.O. Box 2965, Portland, Oregon 97208.

Sherrie Reid,
Branch of Realty and Records Services.

[FR Doc. 02-19946 Filed 8-7-02; 8:45 am]

BILLING CODE 4310-33-M